DEPARTMENT OF HOMELAND SECURITY

Federal Emergency Management Agency

[Docket ID FEMA-2010-0031]

Recovery Policy RP9526.1, Hazard Mitigation Funding Under Section 406 (Stafford Act)

AGENCY: Federal Emergency Management Agency, DHS.

ACTION: Notice of availability.

SUMMARY: This document provides notice of the final Recovery Policy RP9526.1, Hazard Mitigation Funding Under Section 406 (Stafford Act), which is being issued by the Federal Emergency Management Agency (FEMA).

DATES: This policy is effective March 30, 2010.

ADDRESSES: This final policy is available online at http://www.regulations.gov under docket ID FEMA-2010-0031 and on FEMA's Web site at http://www.fema.gov. You may also view a hard copy of the final policy at the Office of Chief Counsel, Federal Emergency Management Agency, Room 835, 500 C Street, SW., Washington, DC 20472-3100.

FOR FURTHER INFORMATION CONTACT: Lu Juana Richardson, Federal Emergency Management Agency, 500 C Street, SW., Washington, DC 20472, via e-mail at LuJuana.Richardson@dhs.gov.

SUPPLEMENTARY INFORMATION: This policy provides guidance on the appropriate use of hazard mitigation discretionary funding available under Section 406 of the Robert T. Stafford Disaster Relief and Emergency Assistance Act (Stafford Act), 42 U.S.C. 5172. This will ensure national consistency in the use of Section 406 mitigation funds and promote measures that reduce future loss to life and property, protect the Federal investment in public infrastructure and ultimately help build disaster-resistant communities.

FEMA has revised this policy to reflect the alignment of benefit cost analysis methodologies between the Mitigation and Recovery Directorates. In order to achieve consistency across program areas and to maximize FEMA's ability to support and encourage cost-effective hazard mitigation, the Public Assistance Division has adopted the Mitigation Directorate's Benefit Cost Analysis (BCA) methodology for Section 406 hazard mitigation projects. Previously, the only benefits considered in the BCA were damage to the facility and its damaged contents, necessary emergency protective measures and temporary relocation assistance. Section VII.B.3. of the policy has been changed to also consider social net benefits (e.g., loss of function, casualty, and cost avoidance) in the BCA.

Authority: 42 U.S.C. 5121-5207; 44 CFR part 206.

David J. Kaufman,
Director, Office of Policy and Program Analysis, Federal Emergency Management Agency.

[FR Doc. 2010-12663 Filed 5-25-10; 8:45 am]

BILLING CODE 9111-23-P